DEPARTMENT OF TRANSPORTATION

Federal Aviation Administration

14 CFR Part 39

[Docket No. FAA-2011-1317; Directorate Identifier 2011-NM-193-AD; Amendment 39-16893; AD 2011-26-03]

RIN 2120-AA64

Airworthiness Directives; The Boeing Company Model 777-200, -200LR, -300, and -300ER Series Airplanes

AGENCY: Federal Aviation Administration (FAA), DOT.

ACTION: Final rule; request for comments.

SUMMARY: We are superseding an existing airworthiness directive (AD) for certain Model 777-200, -300, and -300ER series airplanes. That AD currently requires installing Teflon sleeving under the clamps of certain wire bundles routed along the fuel tank boundary structure, and cap sealing certain penetrating fasteners of the main and center fuel tanks. This AD expands the applicability in the existing AD. This AD was prompted by fuel system reviews conducted by the manufacturer, which determined that electrical arcing on the fuel tank boundary structure or inside the fuel tanks could result in a fire or explosion. We are issuing this AD to correct the unsafe condition on these products.

DATES: This AD is effective January 3, 2012.

The Director of the Federal Register approved the incorporation by reference of certain publications listed in this AD as of January 20, 2011 (75 FR 78588, December 16, 2010).

We must receive any comments on this AD by January 30, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Boeing Commercial Airplanes, Attention: Data & Services Management, P.O. Box 3707, MC 2H-65, Seattle, Washington 98124-2207; telephone (206) 544-5000, extension 1; fax (206) 766-5680; email me.boecom@boeing.com; Internet https://www.myboeingfleet.com. You may review copies of the referenced service information at the FAA, Transport Airplane Directorate, 1601 Lind Avenue SW., Renton, Washington. For information on the availability of this material at the FAA, call (425) 227-1221.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (phone: (800) 647-5527) is in the ADDRESSES section. Comments will be available in the AD docket shortly after receipt.

FOR FURTHER INFORMATION CONTACT: Margaret Langsted, Aerospace Engineer, Propulsion Branch, ANM-140S, FAA, Seattle Aircraft Certification Office, 1601 Lind Avenue SW., Renton, Washington 98057-3356; phone: (425) 917-6500; fax: (425) 917-6590; email margaret.langsted@faa.gov.

SUPPLEMENTARY INFORMATION:

Discussion

On November 18, 2010, we issued AD 2010-24-12, amendment 39-16531 (75 FR 78588, December 16, 2010), for certain Model 777-200, -300, and -300ER series airplanes. That AD requires installing Teflon sleeving under the clamps of certain wire bundles routed along the fuel tank boundary structure, and cap sealing certain penetrating fasteners of the main and center fuel tanks. That AD resulted from fuel system reviews conducted by the manufacturer. We issued that AD to prevent electrical arcing on the fuel tank boundary structure or inside the fuel tanks, which could result in a fire or explosion.

Actions Since AD was Issued

Since we issued AD 2010-24-12, Amendment 39-16531 (75 FR 78588, December 16, 2010), the European Aviation Safety Agency (EASA), which is the Technical Agent for the Member States of the European Community, asked that we specify if Model 777-200LR airplanes are affected by the existing AD, and clarify Note 1 of the existing AD. We have determined that Model 777-200LR airplanes were inadvertently excluded from the applicability of the existing AD. The subject airplanes are identified in the effectivity of Boeing Alert Service Bulletin 777-57A0059, dated October 30, 2008, which was referred to in the existing AD as the appropriate source of service information for accomplishing certain actions. In light of these facts, we have added Model 777-200LR airplanes to the applicability in this AD as they are subject to the identified unsafe condition.

We have also revised Note 1 of the existing AD to further clarify the applicability of the AD with regard to Model 777-200 airplanes.

FAA's Determination

We are issuing this AD because we evaluated all the relevant information and determined the unsafe condition described previously is likely to exist or develop in other products of the same type design.

AD Requirements

This AD retains all requirements of AD 2010-24-12, Amendment 39-16531 (75 FR 78588, December 16, 2010). This AD adds Model 777-200LR airplanes to the applicability of the existing AD, and adds paragraph (i) to this AD to specify the actions (cap sealing the fasteners) required for those airplanes.

FAA's Justification and Determination of the Effective Date

The FAA has found that an additional airplane model has been identified which is subject to the same unsafe condition specified in AD 2010-24-12, Amendment 39-16531 (75 FR 78588, December 16, 2010). There are no U.S.-registered Model 777-200LR airplanes; therefore, we find that notice and opportunity for prior public comment are unnecessary and that good cause exists for making this amendment effective in less than 30 days.

Comments Invited

This AD is a final rule that involves requirements affecting flight safety, and we did not provide you with notice and an opportunity to provide your comments before it becomes effective. However, we invite you to send any written data, views, or arguments about this AD. Send your comments to an address listed under the ADDRESSES section. Include the docket number FAA-2011-1317; and directorate identifier 2011-NM-193-AD; at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 129 airplanes of U.S. registry. This new AD adds no additional economic burden. The current costs for this AD are repeated for the convenience of affected operators, as follows:

Estimated Costs
Action | Labor cost | Parts cost | Cost per product | Cost on U.S. operators
Retained actions from AD 2010-24-12, (75 FR 78588, December 16, 2010) | Between 278 and 358 work-hours × $85 per hour | $2,241 | Between $25,871 and $32,671 per product | Between $3,337,359 and $4,214,559.

Currently, there are no affected Model 777-200LR airplanes on the U.S. Register. However, if a Model 777-200LR airplane is imported and placed on the U.S. Register in the future, the required actions will take about 480 work hours, at an average labor rate of $85 per work hour. Required parts cost about $2,241 per product. Based on these figures, we estimate the cost of this AD for Model 777-200LR airplanes to be $43,041 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2010-24-12, amendment 39-16531 (75 FR 78588, December 16, 2010), and adding the following new AD:

2011-26-03 The Boeing Company: Amendment 39-16893; Docket No. FAA-2011-1317; Directorate Identifier 2011-NM-193-AD.

(a) Effective Date

This AD is effective January 3, 2012.

(b) Affected ADs

This AD supersedes AD 2010-24-12, amendment 39-16531 (75 FR 78588, December 16, 2010).

(c) Applicability

This AD applies to The Boeing Company airplanes, certificated in any category, as identified in the applicable service information specified in paragraphs (c)(1), (c)(2), (c)(3), and (c)(4) of this AD.

(1) For Model 777-200, -300, and -300ER airplanes: Boeing Service Bulletin 777-57A0050, Revision 2, dated May 14, 2009.

(2) For Model 777-200 and -300 airplanes: Boeing Alert Service Bulletin 777-57A0051, dated May 15, 2006.

(3) For Model 777-200, -300, and -300ER airplanes: Boeing Alert Service Bulletin 777-57A0057, Revision 1, dated August 2, 2007.

(4) For Model 777-200, -200LR, -300, and -300ER airplanes: Boeing Alert Service Bulletin 777-57A0059, dated October 30, 2008.

Note 1: Operators should consider any reference to Model 777-200ER airplanes identified in the service information specified in paragraphs (c)(1), (c)(2), (c)(3), and (c)(4) of this AD, as applicable, to be to the Model 777-200 airplanes designated by the type certificate data sheet.

(d) Subject

Joint Aircraft System Component (JASC)/Air Transport Association (ATA) of America Code 57: Wings.

(e) Unsafe Condition

This AD was prompted by fuel system reviews conducted by the manufacturer. We are issuing this AD to prevent electrical arcing on the fuel tank boundary structure or inside the main and center fuel tanks, which could result in a fire or explosion.

(f) Compliance

Comply with this AD within the compliance times specified, unless already done.

Restatement of Requirements of AD 2010-24-12, Amendment 39-16531 (75 FR 78588, December 16, 2010)

(g) Corrective Actions (Installing Teflon Sleeving, Cap Sealing, One-Time Inspection)

Within 60 months after January 20, 2011 (the effective date of AD 2010-24-12, amendment 39-16531 (75 FR 78588, December 16, 2010)), do the applicable actions specified in paragraph (g)(1), (g)(2), (g)(3), or (g)(4) of this AD.

(1) For airplanes identified in Boeing Service Bulletin 777-57A0050, Revision 2, dated May 14, 2009: Install Teflon sleeving under the clamps of certain wire bundles routed along the fuel tank boundary structure and cap seal certain penetrating fasteners of the fuel tanks, in accordance with the Accomplishment Instructions of Boeing Service Bulletin 777-57A0050, Revision 2, dated May 14, 2009.

(2) For airplanes identified in Boeing Alert Service Bulletin 777-57A0051, dated May 15, 2006: Cap seal certain penetrating fasteners of the fuel tanks, in accordance with the Accomplishment Instructions of Boeing Alert Service Bulletin 777-57A0051, dated May 15, 2006.

(3) For airplanes identified in Boeing Alert Service Bulletin 777-57A0057, Revision 1, dated August 2, 2007: Do a general visual inspection to determine if certain fasteners are cap sealed and do all applicable corrective actions, in accordance with the Accomplishment Instructions of Boeing Alert Service Bulletin 777-57A0057, Revision 1, dated August 2, 2007. Do all applicable corrective actions before further flight.

(4) For Model 777-200, -300, and -300ER airplanes identified in Boeing Alert Service Bulletin 777-57A0059, dated October 30, 2008: Cap seal the fasteners in the center fuel tanks that were not sealed during production, in accordance with the Accomplishment Instructions of Boeing Alert Service Bulletin 777-57A0059, dated October 30, 2008.

(h) Credit for Actions Done Using Previous Issues of the Service Bulletins

(1) Actions done before January 20, 2011, in accordance with the Accomplishment Instructions of Boeing Alert Service Bulletin 777-57A0050, dated January 26, 2006; or Revision 1, dated August 2, 2007; are acceptable for compliance with the corresponding actions required by paragraph (g)(1) of this AD, provided that the applicable additional work specified in Boeing Service Bulletin 777-57A0050, Revision 2, dated May 14, 2009, is done within the compliance time specified in paragraph (g) of this AD. The additional work must be done in accordance with Boeing Service Bulletin 777-57A0050, Revision 2, dated May 14, 2009.

(2) Actions done before January 20, 2011, in accordance with the Accomplishment Instructions of Boeing Alert Service Bulletin 777-57A0057, dated August 7, 2006, are acceptable for compliance with the actions required by paragraph (g)(3) of this AD.

New Requirements of This AD

(i) Cap Sealing the Fasteners

For Model 777-200LR airplanes identified in Boeing Alert Service Bulletin 777-57A0059, dated October 30, 2008: Within 60 months after the effective date of this AD, cap seal the fasteners in the center fuel tanks that were not sealed during production, in accordance with the Accomplishment Instructions of Boeing Alert Service Bulletin 777-57A0059, dated October 30, 2008.

(j) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO to make those findings. For a repair method to be approved, the repair must meet the certification basis of the airplane and the approval must specifically refer to this AD.

(k) Related Information

For more information about this AD, contact Margaret Langsted, Aerospace Engineer, Propulsion Branch, ANM-140S, FAA, Seattle ACO, 1601 Lind Avenue SW., Renton, Washington 98057-3356; phone: (425) 917-6500; fax: (425) 917-6590; email margaret.langsted@faa.gov.

(l) Material Incorporated by Reference

(1) You must use the following service information to do the actions required by this AD, unless the AD specifies otherwise. The Director of the Federal Register approved the incorporation by reference (IBR) under 5 U.S.C. 552(a) and 1 CFR part 51 of the following service information on January 20, 2011 (75 FR 78588, December 16, 2010).

(i) Boeing Service Bulletin 777-57A0050, Revision 2, dated May 14, 2009;

(ii) Boeing Alert Service Bulletin 777-57A0051, dated May 15, 2006;

(iii) Boeing Alert Service Bulletin 777-57A0057, Revision 1, dated August 2, 2007; and

(iv) Boeing Alert Service Bulletin 777-57A0059, dated October 30, 2008.

(2) For service information identified in this AD, contact Boeing Commercial Airplanes, Attention: Data & Services Management, P.O. Box 3707, MC 2H-65, Seattle, Washington 98124-2207; telephone (206) 544-5000, extension 1, fax (206) 766-5680; email me.boecom@boeing.com; Internet https://www.myboeingfleet.com.

(3) You may review copies of the service information at the FAA, Transport Airplane Directorate, 1601 Lind Avenue SW., Renton, Washington. For information on the availability of this material at the FAA, call (425) 227-1221.

(4) You may also review copies of the service information that is incorporated by reference at the National Archives and Records Administration (NARA). For information on the availability of this material at an NARA facility, call (202) 741-6030, or go to http://www.archives.gov/federal_register/code_of_federal_regulations/ibr_locations.html.

Issued in Renton, Washington, on December 5, 2011.
Ali Bahrami,
Manager, Transport Airplane Directorate, Aircraft Certification Service.

[FR Doc. 2011-31893 Filed 12-15-11; 8:45 am]

BILLING CODE 4910-13-P